DEPARTMENT OF JUSTICE

Notice of Lodging of Proposed Consent Decree Under the Comprehensive Environmental Response Compensation and Liability Act

Notice is hereby given that on December 23, 2009, a proposed Consent Decree was filed with the United States District Court for the District of Idaho in United States v. Union Pacific Railroad Company, No. 2:09-00392 (D. Idaho). The proposed Consent Decree entered into by the United States, the State of Idaho, and two railroads (Union Pacific Railroad Company and BNSF Railway Company), resolves the United States' claims against the railroads under Sections 106 and 107 of the Comprehensive Environmental Response, Compensation, and Liability Act, 42 U.S.C. 9606, 9607. Under the terms of the Consent Decree, Union Pacific Railroad Company will pay the United States $655,094 and BNSF Railway Company $427,000 in past costs incurred in addressing the contamination at the Wallace Yard and Spur Lines Site within the larger Bunker Hill Mining Site in the C'ouer d'Alene Basin of Idaho. In addition to payments for past response costs, the Consent Decree requires the railroads to perform certain clean up actions selected by EPA and identified in the Statement of Work attached to the Consent Decree. Further, the settlement requires the railroads to contribute to the Basin-wide cleanup program to address contamination of residential properties.

The Department of Justice will receive comments relating to the proposed Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States et al. v. City of West Point, et al., DJ Ref. No. 90-5-1-1-09326.

The proposed Agreement may be examined at the Office of the United States Attorney for the District of Idaho, Washington Group Plaza, 800 Park Boulevard, Suite 600, Boise, ID 83712-9903, and at the Environmental Protection Agency, Region 9, 1200 Sixth Avenue, Seattle, Washington 98101. During the public comment period, the proposed Agreement may also be examined on the following Department of Justice Web site, http://www.usdoj.gov/enrd/Consent_Decrees.html. A copy of the proposed Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $42.00 (25 cents per page reproduction cost) payable to the U.S. Treasury.

Maureen Katz,
Assistant Section Chief, Environmental Enforcement Section, Environment and Natural Resources Division.

[FR Doc. 2010-159 Filed 1-8-10; 8:45 am]

BILLING CODE 4410-15-P